DEPARTMENT OF COMMERCE

National Oceanic and Atmospheric Administration

RIN 0648-XD254

Greater Atlantic Regional Fisheries Office's Geographic Information Systems Program; Availability of Files

Correction

In notice document 2014-10229 appearing on page 25582 in the issue of Monday, May 5, 2014, make the following correction:

On page 25582, in the first column, in the DATES section “May 5, 2014” should read “June 4, 2014”.

[FR Doc. C1-2014-10229 Filed 5-8-14; 8:45 am]

BILLING CODE 1505-01-D